SECURITIES AND EXCHANGE COMMISSION

[Release No. 34-43975; File No. SR-PCX-00-27]

Self-Regulatory Organizations; Order Approving a Proposed Rule Change by the Pacific Exchange, Inc. Relating to Options Trade Reporting

February 16, 2001.

I. Introduction

On August 5, 2000, the Pacific Exchange, Inc. (“PCX” or “Exchange”) filed with the Securities and Exchange Commission (“Commission”), pursuant to Section 19(b)(1) of the Securities Exchange Act of 1934 (“Act”) ¹ and Rule 19b-4 thereunder,² a proposed rule change relating to the reporting of options transactions. The proposed rule change was published for comment in the Federal Register on November 8, 2000.³ The Commission received no comments on the proposal. This order approves the proposal.

¹ 15 U.S.C. 78s(b)(1).

² 17 CFR 240.19b-4.

³ Securities Exchange Act Release No. 43505 (November 1, 2000), 65 FR 67030.

II. Description of the Proposal

The PCX proposes to adopt new PCX Rule 6.69(a) to require all Exchange members and member organizations who are required to report trades either directly to the Options Price Reporting Authority (“OPRA”) or to another party responsible for reporting trades to OPRA, to immediately report all trades to the Exchange for dissemination to OPRA within 90 seconds.

Currently, Commentary .01 to Exchange Rule 6.69 states that trades must be immediately reported at the time of execution. The Exchange proposes to require immediate trade reporting, and in any event, no later than 90 seconds following execution. The Exchange also proposes to amend PCX Rule 10.13 to include violations of proposed Rule 6.69(a) in the Exchange's minor Rule Plan.

III. Discussion

The Commission finds that the proposal is consistent with the requirements of the Act.⁴ In particular, the Commission finds that the proposed rule change furthers the objectives of Section 6(b)(5),⁵ in that it is designed to prevent fraudulent and manipulative acts and practices, to promote just and equitable principles of trade, to foster cooperation and coordination with persons engaged in facilitating transactions in securities, and to remove impediments to and perfect the mechanism of a free and open market and a national market system.

⁴ In approving this rule, the Commission has considered the proposed rule's impact on efficiency, competition, and capital formation. 15 U.S.C. 78c(f).

⁵ 15 U.S.C. 78f(b)(5).

The Commission believes that the proposal, which requires the reporting of all options transactions immediately, and in any event, within 90 seconds of execution, should help to prevent fraudulent and manipulative acts and practices, as well as to promote just and equitable principles of trade. The Commission believes that the proposed rule change should enable the Exchange to provide timely trade information to investors more efficiently. The enhanced transparency associated with timely trade reporting should facilitate price discovery for investors and assist the Exchange's surveillance of its members' trading in listed options.

IV. Conclusion

It is therefore ordered, pursuant to Section 19(b)(2) of the Act,⁶ that the proposed rule change (SR-PCX-00-27) is approved.

⁶ 15 U.S.C. 78s(b)(2).

For the Commission, by the Division of Market Regulation, pursuant to delegated authority.⁷
⁷ 17 CFR 200.30-3(a)(12).
Margaret H. McFarland,
Deputy Secretary.

[FR Doc. 01-4595 Filed 2-23-01; 8:45 am]

BILLING CODE 8010-01-M